DEPARTMENT OF HEALTH AND HUMAN SERVICES

National Institutes of Health

National Heart, Lung, and Blood Institute; Notice of Meeting

Pursuant to section 10(a) of the Federal Advisory Committee Act, as amended, notice is hereby given of a meeting of the Sickle Cell Disease Advisory Committee.

The meeting will be open to the public through a virtual meeting. Individuals who plan to attend and need special assistance, such as sign language interpretation or other reasonable accommodations, should notify the Contact Person listed below in advance of the meeting.

Name of Committee: Sickle Cell Disease Advisory Committee.

Date: January 30, 2023.

Time: 10:00 a.m. to 2:30 p.m.

Agenda: Research, engagement and representation from the community.

Place: National Institutes of Health, Rockledge 1, 6705 Rockledge Dr, Bethesda, MD 20892, (Virtual Meeting—Teleconference andZoomGov).

Telephone Access: +1 669 254 5252 (Meeting ID 160 763 2658).

Virtual Access: https://nih.zoomgov.com/j/1607632658, (Meeting ID: 160 763 2658).

Contact Person: Nahed El Kassar, MD, Ph.D. Medical Officer National Heart, Lung, and Blood Institute, Blood Epidemiology & Clinical Therapeutics Branch, Division of Blood Diseases and Resources, 6701 Rockledge Drive, Suite 9166, Bethesda, MD 20892, 301-435-0080, NHLBIDBDRGrantResource@nhlbi.nih.gov.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: www.nhlbi.nih.gov/meetings/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: December 8, 2022.
David W Freeman,
Program Analyst, Office of Federal Advisory Committee Policy.

[FR Doc. 2022-26996 Filed 12-12-22; 8:45 am]

BILLING CODE 4140-01-P